DEPARTMENT OF ENERGY

Federal Energy Regulatory Commission

Combined Notice of Filings #1

Take notice that the Commission received the following exempt wholesale generator filings:

Docket Numbers: EG26-137-000.

Applicants: Tip Top Solar Energy Center LLC.

Description: Tip Top Solar Energy Center LLC submits Notice of Self-Certification of Exempt Wholesale Generator Status.

Filed Date: 1/26/26.

Accession Number: 20260126-5298.

Comment Date: 5 p.m. ET 2/17/26.

Docket Numbers: EG26-138-000.

Applicants: Country Acres Clean Power LLC.

Description: Country Acres Clean Power LLC submits Notice of Self-Certification of Exempt Wholesale Generator Status.

Filed Date: 1/27/26.

Accession Number: 20260127-5030.

Comment Date: 5 p.m. ET 2/17/26.

Docket Numbers: EG26-139-000.

Applicants: Santa Teresa Solar, LLC.

Description: Santa Teresa Solar, LLC submits Notice of Self-Certification of Exempt Wholesale Generator Status.

Filed Date: 1/27/26.

Accession Number: 20260127-5149.

Comment Date: 5 p.m. ET 2/17/26.

Take notice that the Commission received the following electric rate filings:

Docket Numbers: ER10-2126-012.

Applicants: Idaho Power Company.

Description: Notice of Non-Material Change in Status of Idaho Power Company.

Filed Date: 1/27/26.

Accession Number: 20260127-5157.

Comment Date: 5 p.m. ET 2/17/26.

Docket Numbers: ER10-2354-019.

Applicants: Midway-Sunset Cogeneration Company.

Description: Notice of Non-Material Change in Status of Midway-Sunset Cogeneration Company.

Filed Date: 1/26/26.

Accession Number: 20260126-5325.

Comment Date: 5 p.m. ET 2/17/26.

Docket Numbers: ER26-283-001.

Applicants: Southern California Edison Company.

Description: Tariff Amendment: SCE Response to Deficiency Ltr re Unexecuted Sequoia LGIA (Re-File) to be effective 10/29/2025.

Filed Date: 1/27/26.

Accession Number: 20260127-5006.

Comment Date: 5 p.m. ET 2/17/26.

Docket Numbers: ER26-441-001.

Applicants: Clearlight Energy US Funding, LLC.

Description: Tariff Amendment: Deficiency Letter and Request for Expedited Comment Deadline to be effective 1/6/2026.

Filed Date: 1/26/26.

Accession Number: 20260126-5290.

Comment Date: 5 p.m. ET 2/5/26.

Docket Numbers: ER26-453-001.

Applicants: Gen IV Investment Opportunities, LLC.

Description: Tariff Amendment: Deficiency Letter and Request for Expedited Comment Deadline to be effective 1/7/2026.

Filed Date: 1/26/26.

Accession Number: 20260126-5292.

Comment Date: 5 p.m. ET 2/5/26.

Docket Numbers: ER26-559-001.

Applicants: Capacitor Borrower, LLC.

Description: Tariff Amendment: Deficiency Letter and Request for Expedited Comment Deadline to be effective 1/20/2026.

Filed Date: 1/26/26.

Accession Number: 20260126-5294.

Comment Date: 5 p.m. ET 2/5/26.

Docket Numbers: ER26-958-001.

Applicants: Mid-Atlantic Interstate Transmission, LLC.

Description: Tariff Amendment: PJM Interconnection, L.L.C. submits tariff filing per 35.17(b): Amendment to Amended IA, SA No. 4577 in ER26-958 to be effective 3/9/2026.

Filed Date: 1/27/26.

Accession Number: 20260127-5205.

Comment Date: 5 p.m. ET 2/17/26.

Docket Numbers: ER26-1133-000.

Applicants: Atlas VIII, LLC.

Description: Initial Rate Filing: Second Amended and Restated LGIA Co-Tenancy Agreement to be effective 1/28/2026.

Filed Date: 1/27/26.

Accession Number: 20260127-5035.

Comment Date: 5 p.m. ET 2/17/26.

Docket Numbers: ER26-1134-000.

Applicants: Atlas VIII, LLC.

Description: Initial rate filing: Second Amended and Restated Shared Facilities Common Ownership Agreement to be effective 1/28/2026.

Filed Date: 1/27/26.

Accession Number: 20260127-5037.

Comment Date: 5 p.m. ET 2/17/26.

Docket Numbers: ER26-1135-000.

Applicants: Atlas VIII, LLC.

Description: Initial rate filing: Shared Facilities Common Ownership Agreement Substation #1 to be effective 1/28/2026.

Filed Date: 1/27/26.

Accession Number: 20260127-5038.

Comment Date: 5 p.m. ET 2/17/26.

Docket Numbers: ER26-1136-000.

Applicants: Southwest Power Pool, Inc.

Description: § 205(d) Rate Filing: Farmington Electric Utility System Stated Rate Filing to be effective 4/1/2026.

Filed Date: 1/27/26.

Accession Number: 20260127-5045.

Comment Date: 5 p.m. ET 2/17/26.

Docket Numbers: ER26-1137-000.

Applicants: Deseret Generation & Transmission Co-operative, Inc., Southwest Power Pool, Inc.

Description: § 205(d) Rate Filing: Southwest Power Pool, Inc. submits tariff filing per 35.13(a)(2)(iii: Deseret Generation & Transmission Co-operative, Inc. Stated Rate Filing to be effective 4/1/2026.

Filed Date: 1/27/26.

Accession Number: 20260127-5087.

Comment Date: 5 p.m. ET 2/17/26.

Docket Numbers: ER26-1139-000.

Applicants: 311SV 8me LLC.

Description: § 205(d) Rate Filing: Application for Market-Based Rate Authority to be effective 2/23/2026.

Filed Date: 1/27/26.

Accession Number: 20260127-5093.

Comment Date: 5 p.m. ET 2/17/26.

Docket Numbers: ER26-1140-000.

Applicants: Midcontinent Independent System Operator, Inc., Big Rivers Electric Corporation.

Description: § 205(d) Rate Filing: Big Rivers Electric Corporation submits tariff filing per 35.13(a)(2)(iii: 2026-01-27_SA 4667 Big Rivers-OMU TIA to be effective 3/29/2026.

Filed Date: 1/27/26.

Accession Number: 20260127-5096.

Comment Date: 5 p.m. ET 2/17/26.

Docket Numbers: ER26-1141-000.

Applicants: Deseret Generation & Transmission Co-operative, Inc.

Description: § 205(d) Rate Filing: OATT Amendments—DGT RTO Expansion to be effective 4/1/2026.

Filed Date: 1/27/26.

Accession Number: 20260127-5101.

Comment Date: 5 p.m. ET 2/17/26.

Docket Numbers: ER26-1142-000.

Applicants: Santa Teresa Solar, LLC.

Description: § 205(d) Rate Filing: Application for Market-Based Rate Authority to be effective 3/3/2026.

Filed Date: 1/27/26.

Accession Number: 20260127-5116.

Comment Date: 5 p.m. ET 2/17/26.

Docket Numbers: ER26-1143-000.

Applicants: El Paso Electric Company.

Description: § 205(d) Rate Filing: Service Agreement No. 427, Simultaneous Exchange with Dynasty Power Inc. to be effective 4/1/2026.

Filed Date: 1/27/26.

Accession Number: 20260127-5138.

Comment Date: 5 p.m. ET 2/17/26.

Docket Numbers: ER26-1144-000.

Applicants: Southwest Power Pool, Inc.

Description: § 205(d) Rate Filing: Revisions to Attachment AA Effective 20260401 to be effective 4/1/2026.

Filed Date: 1/27/26.

Accession Number: 20260127-5152.

Comment Date: 5 p.m. ET 2/17/26.

Docket Numbers: ER26-1145-000.

Applicants: Duke Energy Progress, LLC.

Description: § 205(d) Rate Filing: DEP-DEP E&P Agmt RS No. 485 to be effective 3/29/2026.

Filed Date: 1/27/26.

Accession Number: 20260127-5173.

Comment Date: 5 p.m. ET 2/17/26.

Docket Numbers: ER26-1146-000.

Applicants: Arizona Public Service Company.

Description: § 205(d) Rate Filing: Service Agreement No. 442—E&P w/El Rio Sol to be effective 12/29/2025.

Filed Date: 1/27/26.

Accession Number: 20260127-5226.

Comment Date: 5 p.m. ET 2/17/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 27, 2026.
Carlos D. Clay,
Deputy Secretary.

[FR Doc. 2026-01848 Filed 1-29-26; 8:45 am]

BILLING CODE 6717-01-P